DEPARTMENT OF TRANSPORTATION

Federal Highway Administration

Uniform Relocation Assistance and Real Property Acquisition for Federal and Federally Assisted Programs; Fixed Residential Moving Cost Schedule

AGENCY: Federal Highway Administration (FHWA), DOT.

ACTION: Notice.

SUMMARY: The purpose of this notice is to publish changes in the Fixed Residential Moving Cost Schedule for the States and Territories of Alabama, Arkansas, California, Colorado, Delaware, Guam, Illinois, Indiana, Iowa, Kentucky, Maryland, Massachusetts, Michigan, Minnesota, Mississippi, Nebraska, New Jersey, New York, North Carolina, North Dakota, Ohio, Oklahoma, Oregon, South Carolina, South Dakota, Tennessee, Texas, Utah, Virginia, West Virginia, Wisconsin, and Wyoming as provided for by section 202(b) of the Uniform Relocation Assistance and Real Property Acquisition Policies Act of 1970, as amended (Uniform Act), 42 U.S.C. 4622(b). The schedule amounts for the States and Territories not listed above remain unchanged from the amounts published on July 23, 2008, at 73 FR 42895. The Uniform Act applies to all programs or projects undertaken by Federal agencies or with Federal financial assistance that cause the displacement of any person.

DATES: The provisions of this notice are effective June 22, 2012 or on such earlier date as an agency elects to begin operating under this schedule.

FOR FURTHER INFORMATION CONTACT: Ms. Carolyn Winborne James, Office of Real Estate Services, (202) 493-0353, Carolyn.James@dot.gov, Ms. JoAnne Robinson, Office of the Chief Counsel, (202) 366-1346, JoAnne.Robinson@dot.gov; Federal Highway Administration, 1200 New Jersey Avenue SE., Washington, DC 20590. Office hours are from 8:00 a.m. to 4:30 p.m., e.t., Monday through Friday, except Federal holidays.

SUPPLEMENTARY INFORMATION:

Electronic Access

An electronic copy of this notice may be downloaded from Office of the Federal Register's home page at: http://www.archives.gov/federal_register and the Government Printing Office's Web page at: http://www.fdsys.gov.

Background

The Uniform Relocation Assistance and Real Property Acquisition Policies Act of 1970, as amended, 42 U.S.C. 4601-4655 (Uniform Act), establishes a program that includes the payment of moving and related expenses to assist persons who are displaced because of Federal or federally assisted projects. The FHWA is the lead agency for implementing the provisions of the Uniform Act and has issued government-wide implementing regulations at 49 CFR part 24.

The following 17 Federal departments and agencies have, by cross-reference, adopted the government-wide regulations: Department of Agriculture; Department of Commerce; Department of Defense; Department of Education; Department of Energy; Department of Homeland Security; Environmental Protection Agency; Federal Emergency Management Agency; General Services Administration; Department of Health and Human Services; Department of Housing and Urban Development; Department of the Interior; Department of Justice; Department of Labor; Department of Veterans Affairs; National Aeronautics and Space Administration; Tennessee Valley Authority.

Section 202(b) of the Uniform Act provides that, as an alternative to being paid for actual residential moving and related expenses, a displaced person may elect payment for moving expenses on the basis of a moving expense schedule established by the head of the lead agency. The government-wide regulations at 49 CFR 24.302 provide that the FHWA will develop, approve, maintain, and update this schedule, as appropriate.

The purpose of this notice is to update the schedule published on July 23, 2008, at 73 FR 42895. The schedule is being updated to reflect the increased costs associated with moving personal property and was developed from data provided by State highway agencies. This update increases the schedule amounts in the States and Territories of Alabama, Arkansas, California, Colorado, Delaware, Guam, Illinois, Indiana, Iowa, Kentucky, Maryland, Massachusetts, Michigan, Minnesota, Mississippi, Nebraska, New Jersey, New York, North Carolina, North Dakota, Ohio, Oklahoma, Oregon, South Carolina, South Dakota, Tennessee, Texas, Utah, Virginia, West Virginia, Wisconsin, and Wyoming. The schedule amounts for the States and Territories not listed above remain unchanged. The payments listed in the table below apply on a State-by-State basis. Two exceptions and limitations apply to all States and Territories. Payment is limited to $100.00 if either of the following conditions applies:

(a) A person has minimal possessions and occupies a dormitory style room,

or

(b) A person's residential move is performed by an agency at no cost to the person.

The schedule continues to be based on the “number of rooms of furniture” owned by a displaced person. In the interest of fairness and accuracy, and to encourage the use of the schedule (and thereby simplify the computation and payment of moving expenses), an agency should increase the room count for the purpose of applying the schedule if the amount of possessions in a single room or space actually constitutes more than the normal contents of one room of furniture or other personal property. For example, a basement may count as two rooms if the equivalent of two rooms worth of possessions is located in the basement. In addition, an agency may elect to pay for items stored outside the dwelling unit by adding the appropriate number of rooms.

Authority: 42 U.S.C. 4622(b) and 4633(b); 49 CFR 1.48 and 24.302.

Issued on: May 10, 2012.
Victor M. Mendez,
Administrator.

The payments listed in the table below apply on a state-by-state basis. Two exceptions and limitations apply to all States and Territories. Payment is limited to $100.00 if either of the following conditions apply:

(a) A person has minimal possessions and occupies a dormitory style room, or

(b) A person's residential move is performed by an agency at no cost to the person.

Uniform Relocation Assistance and Real Property Acquisition Policies Act of 1970, as Amended—Fixed Residential Moving Cost Schedule (2012)
State | Occupant owns furniture: Number of rooms of furniture: 1 room | Occupant owns furniture: Number of rooms of furniture: 2 rooms | Occupant owns furniture: Number of rooms of furniture: 3 rooms | Occupant owns furniture: Number of rooms of furniture: 4 rooms | Occupant owns furniture: Number of rooms of furniture: 5 rooms | Occupant owns furniture: Number of rooms of furniture: 6 rooms | Occupant owns furniture: Number of rooms of furniture: 7 rooms | Occupant owns furniture: Number of rooms of furniture: 8 rooms | Occupant does not own furniture: addt'l room | Occupant does not own furniture: 1 room/ no furn. | Occupant does not own furniture: Addt'l room no furn.
Alabama | 600 | 750 | 900 | 1050 | 1200 | 1350 | 1500 | 1650 | 150 | 400 | 50
Alaska | 700 | 900 | 1125 | 1350 | 1550 | 1725 | 1900 | 2075 | 300 | 500 | 200
American Samoa | 282 | 395 | 508 | 621 | 706 | 790 | 875 | 960 | 85 | 226 | 28
Arizona | 700 | 800 | 900 | 1000 | 1100 | 1200 | 1300 | 1400 | 100 | 395 | 60
Arkansas | 550 | 825 | 1100 | 1350 | 1600 | 1825 | 2050 | 2275 | 200 | 300 | 70
California | 685 | 880 | 1100 | 1295 | 1570 | 1815 | 2090 | 2365 | 250 | 450 | 85
Colorado | 600 | 800 | 1000 | 1150 | 1300 | 1450 | 1600 | 1750 | 150 | 350 | 50
Connecticut | 620 | 810 | 1000 | 1180 | 1425 | 1670 | 1910 | 2150 | 150 | 225 | 60
Delaware | 500 | 710 | 880 | 1110 | 1260 | 1410 | 1560 | 1710 | 160 | 400 | 60
DC | 500 | 650 | 800 | 950 | 1100 | 1250 | 1400 | 1650 | 150 | 300 | 50
Florida | 550 | 700 | 875 | 1050 | 1200 | 1350 | 1500 | 1650 | 200 | 450 | 125
Georgia | 600 | 975 | 1300 | 1600 | 1875 | 2125 | 2325 | 2525 | 200 | 375 | 100
Guam | 450 | 800 | 1150 | 1450 | 1750 | 2000 | 2250 | 2500 | 100 | 200 | 0
Hawaii | 550 | 900 | 1250 | 1550 | 1850 | 2100 | 2350 | 2600 | 200 | 300 | 100
Idaho | 500 | 650 | 800 | 950 | 1100 | 1200 | 1300 | 1400 | 100 | 300 | 50
Illinois | 700 | 850 | 1000 | 1100 | 1250 | 1450 | 1600 | 1900 | 300 | 500 | 75
Indiana | 500 | 700 | 900 | 1100 | 1300 | 1500 | 1700 | 1900 | 200 | 400 | 100
Iowa | 550 | 700 | 800 | 900 | 1000 | 1100 | 1225 | 1350 | 125 | 500 | 50
Kansas | 400 | 600 | 800 | 1000 | 1200 | 1400 | 1600 | 1800 | 200 | 250 | 50
Kentucky | 500 | 700 | 900 | 1100 | 1300 | 1500 | 1700 | 1900 | 200 | 350 | 50
Louisiana | 500 | 700 | 900 | 1100 | 1300 | 1500 | 1700 | 1900 | 200 | 375 | 60
Maine | 650 | 900 | 1150 | 1400 | 1650 | 1900 | 2150 | 2400 | 250 | 400 | 100
Maryland | 650 | 850 | 1050 | 1250 | 1450 | 1650 | 1850 | 2050 | 200 | 500 | 100
Massachusetts | 700 | 850 | 1000 | 1150 | 1300 | 1450 | 1600 | 1750 | 200 | 400 | 100
Michigan | 700 | 950 | 1150 | 1300 | 1450 | 1600 | 1750 | 1900 | 300 | 500 | 200
Minnesota | 550 | 700 | 900 | 1100 | 1300 | 1500 | 1700 | 1900 | 250 | 425 | 100
Mississippi | 750 | 850 | 1000 | 1200 | 1400 | 1550 | 1700 | 1850 | 300 | 400 | 100
Missouri | 800 | 900 | 1000 | 1100 | 1200 | 1300 | 1400 | 1500 | 200 | 400 | 100
Montana | 500 | 700 | 800 | 900 | 1100 | 1300 | 1500 | 1700 | 200 | 350 | 50
Nebraska | 390 | 545 | 700 | 855 | 970 | 1075 | 1205 | 1325 | 120 | 310 | 40
Nevada | 500 | 700 | 900 | 1100 | 1300 | 1500 | 1700 | 1900 | 200 | 350 | 60
New Hampshire | 500 | 700 | 900 | 1100 | 1300 | 1500 | 1700 | 1900 | 200 | 200 | 150
New Jersey | 625 | 725 | 825 | 975 | 1125 | 1275 | 1375 | 1525 | 250 | 300 | 50
New Mexico | 650 | 850 | 1050 | 1250 | 1450 | 1650 | 1850 | 2050 | 200 | 400 | 60
New York | 600 | 800 | 1000 | 1200 | 1400 | 1600 | 1800 | 2000 | 200 | 350 | 100
North Carolina | 550 | 750 | 1050 | 1200 | 1350 | 1600 | 1700 | 1900 | 150 | 350 | 50
North Dakota | 465 | 670 | 845 | 1015 | 1190 | 1330 | 1420 | 1595 | 175 | 405 | 60
N. Mariana Is | 282 | 395 | 508 | 621 | 706 | 790 | 875 | 960 | 85 | 226 | 28
Ohio | 600 | 800 | 1000 | 1150 | 1300 | 1450 | 1600 | 1750 | 150 | 400 | 100
Oklahoma | 600 | 750 | 900 | 1100 | 1250 | 1450 | 1650 | 1850 | 175 | 300 | 50
Oregon | 600 | 800 | 1000 | 1200 | 1400 | 1600 | 1800 | 2000 | 200 | 350 | 100
Pennsylvania | 500 | 750 | 1000 | 1200 | 1400 | 1600 | 1800 | 2000 | 200 | 400 | 70
Puerto Rico | 500 | 700 | 850 | 950 | 1150 | 1300 | 1450 | 1600 | 150 | 425 | 100
Rhode Island | 450 | 625 | 800 | 900 | 1000 | 1200 | 1350 | 1500 | 150 | 300 | 50
South Carolina | 685 | 790 | 1075 | 1260 | 1575 | 1735 | 1890 | 2075 | 225 | 500 | 75
South Dakota | 500 | 650 | 800 | 950 | 1050 | 1200 | 1400 | 1600 | 200 | 300 | 40
Tennessee | 500 | 750 | 1000 | 1250 | 1500 | 1750 | 2000 | 2250 | 250 | 400 | 100
Texas | 600 | 800 | 1000 | 1200 | 1400 | 1600 | 1750 | 1900 | 150 | 400 | 50
Utah | 600 | 750 | 900 | 1050 | 1200 | 1350 | 1500 | 1650 | 150 | 500 | 100
Vermont | 400 | 550 | 650 | 850 | 1000 | 1100 | 1200 | 1300 | 150 | 300 | 75
Virgin Islands | 500 | 700 | 850 | 950 | 1150 | 1300 | 1450 | 1600 | 150 | 425 | 100
Virginia | 600 | 800 | 1000 | 1200 | 1400 | 1600 | 1800 | 2000 | 200 | 400 | 75
Washington | 600 | 800 | 1000 | 1200 | 1400 | 1600 | 1800 | 2000 | 200 | 300 | 50
West Virginia | 750 | 900 | 1050 | 1200 | 1350 | 1500 | 1650 | 1800 | 150 | 350 | 50
Wisconsin | 550 | 700 | 900 | 1100 | 1300 | 1500 | 1700 | 1900 | 250 | 425 | 100
Wyoming | 480 | 590 | 750 | 910 | 1070 | 1180 | 1400 | 1500 | 160 | 300 | 50

[FR Doc. 2012-12380 Filed 5-22-12; 8:45 am]

BILLING CODE 4910-22-P